DEPARTMENT OF HEALTH AND HUMAN SERVICES

National Institutes of Health

Center for Scientific Review; Amended Notice of Meeting

Notice is hereby given of a change in the meeting of the Clinical and Integrative Cardiovascular Sciences Study Section, October 03, 2013, 08:00 a.m. to October 03, 2013, 06:00 p.m., Hotel Kabuki, 1625 Post Street, San Francisco, CA 94115 which was published in the Federal Register on September 09, 2013, 78 FR 55086.

The meeting will be held on December 13, 2013 from 11:00 a.m. to 6:00 p.m. at the National Institutes of Health, 6701 Rockledge Drive, Bethesda, MD 20892. The meeting is closed to the public.

Dated: October 29, 2013.
Melanie J. Gray,
Program Analyst, Office of Federal Advisory Committee Policy.

[FR Doc. 2013-26208 Filed 11-1-13; 8:45 am]

BILLING CODE 4140-01-P